DEPARTMENT OF HOUSING AND URBAN DEVELOPMENT

[Docket No. FR-5415-FA-31]

Announcement of Funding Awards for the Special Needs Assistance Programs—Technical Assistance (SNAPS—TA) Fiscal Year 2010

AGENCY: Office of the Assistant Secretary for Community Planning and Development, HUD.

ACTION: Notice of funding awards for HUD'S Fiscal Year 2010 Special Needs Assistance Programs—Technical Assistance (SNAPS—TA).

SUMMARY: In accordance with section 102(a)(4)(C) of the Department of Housing and Urban Development Reform Act of 1989, this announcement notifies the public of funding decisions made by the Department in a competition for funding under the Notice of Funding Availability (NOFA) for the Special Needs Assistance Programs Technical Assistance program. This announcement contains the names of the awardees and amounts of the awards made available by HUD.

FOR FURTHER INFORMATION CONTACT: Holly A. Kelly, Acting Director, Technical Assistance Division, Office of Community Planning and Development, 451 Seventh Street, SW., Room 7218, Washington, DC 20410-7000; telephone (708) 708-3176 (this is not a toll-free number). Persons with speech or hearing impairments may access this telephone number via TTY by calling the toll-free Federal Information Relay Service during working hours at 800-877-8339. For general information on this and other HUD programs, call Community Connections at 1-800-998-9999 or visit the HUD Web site at http://www.hud.gov.

SUPPLEMENTARY INFORMATION: The Fiscal Year 2010 SNAPS Technical Assistance program was designed to provide technical assistance for homeless programs in the Office of Special Needs Assistance Programs through the selection of technical assistance (TA) providers for this program.

The competition was announced in the SNAPS-TA NOFA published October 10, 2010 (FR-5415-N-31) and closed on November 22, 2010. The NOFA allowed for up to $16.3 million for technical assistance. Approximately $9.8 million was available under HUD McKinney-Vento Technical Assistance for homeless assistance programs, Homeless Management Information System (HMIS) data collection, reporting and research, including the Annual Homeless Assessment Report (AHAR) TA activities and approximately $1.2 million under the American Recovery and Reinvestment Act for Homelessness Prevention and Rapid Re-Housing Program (HPRP) TA activities. Collectively they are referred to as the SNAPS Technical Assistance Program (SNAPS-TA). Additional funds including approximately $6.5 million for McKinney-Vento homeless assistance TA became available as a result of HUD's recapture of unused funds as well as the use of carryover funds. Applications were rated and selected for funding on the basis of selection criteria contained in the notice. For the Fiscal Year 2010 competition, seven awards totaling $17,482,000 were awarded to seven distinct technical assistance providers nationwide.

In accordance with Section 102(a)(4)(C) of the Department of Housing and Urban Development Reform Act of 1989 (103 Stat. 1987, 42 U.S.C. 3545), the Department is publishing the awardees and the amounts of the awards in Appendix A to this document.

Dated: January 26, 2011.
Clifford D. Taffet,
General Deputy Assistant Secretary for Community Planning and Development.

Appendix A—FY2010 SNAPS-TA Awards
Recipient | State | Amount
Abt Associates | MA | $3,940,000
Cloudburst Consulting Group | MD | 2,810,000
Corporation for Supportive Housing | NY | 2,000,000
ICF International | VA | 3,882,000
National Center on Family Homelessness | MA | 2,200,000
Technical Assistance Collaborative (TAC) | MA | 1,000,000
Training & Development Assoc. (TDA) | NC | 1,650,000
Grand Total |  | 17,482,000

[FR Doc. 2011-2759 Filed 2-7-11; 8:45 am]

BILLING CODE 4210-67-P